DEPARTMENT OF THE INTERIOR

Fish and Wildlife Service

Draft Recovery Plan for the Nosa Luta or Rota Bridled White-eye (Zosterops rotensis)

AGENCY: Fish and Wildlife Service, Interior.

ACTION: Notice of document availability for review and comment.

SUMMARY: We, the U.S. Fish and Wildlife Service, announce the availability of the Draft Recovery Plan for the Nosa Luta or Rota Bridled White-eye (Zosterops rotensis), for public review and comment.

DATES: Comments on the draft recovery plan must be received on or before November 20, 2006.

ADDRESSES: Copies of the draft recovery plan are available by request from the U.S. Fish and Wildlife Service, Pacific Islands Fish and Wildlife Office, 300 Ala Moana Boulevard, Room 3-122, Box 50088, Honolulu, Hawaii 96850 (phone: 808/792-9400). Written comments and materials regarding this draft recovery plan should be addressed to the Field Supervisor at the above Honolulu address. An electronic copy of the draft recovery plan is also available at http://endangered.fws.gov/recovery/index.html#plans.

FOR FURTHER INFORMATION CONTACT: Fred Amidon, Fish and Wildlife Biologist, at the above Honolulu address.

SUPPLEMENTARY INFORMATION:

Background

Restoring endangered or threatened animals and plants to the point where they are again secure, self-sustaining members of their ecosystems is a primary goal of our endangered species program. The Endangered Species Act (16 U.S.C. 1531 et seq.) (ESA) requires the development of recovery plans for listed species unless such a plan would not promote the conservation of a particular species. Recovery plans help guide the recovery effort by describing actions considered necessary for the conservation of the species, establishing criteria for downlisting or delisting listed species, and estimating time and cost for implementing the measures needed for recovery.

Section 4(f) of the ESA requires that public notice, and an opportunity for public review and comment, be provided during recovery plan development. We will consider all information presented during the public comment period prior to approval of each new or revised recovery plan. Substantive comments on the recovery needs of the species or other aspects of recovery plan development may result in changes to the recovery plan. Substantive comments regarding recovery plan implementation may not necessarily result in changes to the recovery plan, but will be forwarded to appropriate Federal or other entities so that they can take these comments into account during the course of implementing recovery actions. Individual responses to comments will not be provided.

The Rota bridled white-eye, known as nosa Luta in Chamorro, is a bird endemic to the island of Rota in the Mariana archipelago and was federally listed as endangered in 2004 (January 22, 2004, 69 FR 3022). In 1999, the population was estimated to be approximately 1,000 individuals, representing a 90 percent decline since 1982, and the species' core range consisted of approximately 628 acres (254 hectares) of forest above 490 feet (150 meters) elevation. Available information indicates that habitat loss and degradation and predation by introduced rats (Rattus spp.) and black drongos (Dicrurus macrocercus) are having some impact on the nosa Luta population. Due to its restricted range and small population size, the species is also highly susceptible to random catastrophic events such as typhoons and the accidental introduction of new predators such as the brown treesnake (Boiga irregularis), and avian diseases such as West Nile virus.

The draft recovery plan for the nosa Luta focuses on the following actions: (1) Protecting and enhancing forests in the species' range; (2) determining the specific habitat requirements of the nosa Luta to manage areas for the species' conservation; (3) assessing the impact of predation by black drongos and rats, and controlling these species as appropriate; (4) preventing the introduction of new predators and avian diseases; and (5) developing techniques to safeguard the species from extinction due to random catastrophic events.

The immediate goals of the draft recovery plan are to stop further declines in the range and composition of the nosa Luta population, develop safeguards to prevent the species from going extinct, and restore the population to at least the abundance levels estimated in 1982 (10,000 individuals). In addition to suggesting actions to address the immediate threats to the species, the draft recovery plan calls for research to determine the specific habitat requirements and life history parameters of the nosa Luta to inform long-term management decisions for the effective recovery of the species.

Public Comments Solicited

We solicit written comments on the draft recovery plan described. All comments received by the date specified above will be considered prior to approval of this plan.

Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Authority

The authority for this action is section 4(f) of the Endangered Species Act, 16 U.S.C. 1533 (f).

Dated: June 6, 2006.
Carolyn A. Bohan,
Acting Regional Director, Region 1, U.S. Fish and Wildlife Service.

[FR Doc. E6-15510 Filed 9-18-06; 8:45 am]

BILLING CODE 4310-55-P